DEPARTMENT OF COMMERCE

International Trade Administration

[A-533-502, A-549-502, and A-489-501]

Certain Circular Welded Carbon Steel Pipes and Tubes From India, Thailand, and Turkey; Final Results of Expedited Five-Year (“Sunset”) Reviews of Antidumping Duty Orders

AGENCY: Import Administration, International Trade Administration, Department Commerce.

SUMMARY: On July 1, 2011, the Department of Commerce (“the Department”) initiated the third sunset reviews of the antidumping duty orders on certain circular welded carbon steel pipes and tubes from India, Thailand, and Turkey, pursuant to section 751(c) of the Tariff Act of 1930, as amended (“the Act”). On the basis of a notice of intent to participate and adequate substantive responses filed on behalf of the domestic interested parties and inadequate response from respondent interested parties, the Department has conducted expedited sunset reviews of these antidumping duty orders. As a result of these sunset reviews, the Department finds that revocation of the antidumping duty orders would likely lead to continuation or recurrence of dumping at the level indicated in the “Final Results of Reviews” section of this notice.

DATES: Effective Date: October 28, 2011.

FOR FURTHER INFORMATION CONTACT: Dennis McClure, Antidumping/Countervailing Duty Operations, Import Administration, International Trade Administration, U.S. Department of Commerce, 14th Street and Constitution Avenue, NW., Washington, DC 20230; telephone: (202) 482-5973.

SUPPLEMENTARY INFORMATION:

Background

Pursuant to section 736 of the Act, the Department published in the Federal Register the antidumping duty orders on certain circular welded carbon steel pipes and tubes from India, Thailand, and Turkey. See Antidumping Duty Order; Certain Welded Carbon Steel Standard Pipes and Tubes from India, 51 FR 17384 (May 12, 1986); Antidumping Duty Order; Circular Welded Carbon Steel Pipes and Tubes From Thailand, 51 FR 8341 (March 11, 1986); and Antidumping Duty Order; Welded Carbon Steel Standard Pipe and Tube Products From Turkey, 51 FR 17784 (May 15, 1986).

On July 1, 2011, the Department published a notice of initiation of the third sunset reviews of the antidumping duty orders on certain circular welded carbon steel pipes and tubes from India, Thailand, and Turkey, pursuant to section 751(c) of the Act. See Initiation of Five-Year (“Sunset”) Review, 76 FR 38613 (July 1, 2011).

For each of these sunset reviews, the Department received notice of intent to participate from Allied Tube and Conduit, JMC Steel Group, Leavitt Tube, Northwest Pipe Company, TMK IPSCO Tubulars, U.S. Steel Corporation, and Western Tube and Conduit, (collectively, “the domestic interested parties”) within the deadline specified in 19 CFR 351.218(d)(1)(i). In addition, Wheatland Tube Company (“Wheatland”) filed an entry of appearance and also requested recognition as a domestic interested party. The domestic interested parties claim interested party status under section 771(9)(C) of the Act as U.S. producers of the subject merchandise.

On July 4, 2011, the Government of Turkey filed an entry of appearance as an interested party for the Turkish proceeding. On July 5, 2011, the Government of Turkey requested the Department to extend the 30-day deadline for filing its substantive response as specified in 19 CFR 351.218(d)(3)(i). On July 7, 2011, Saha Thai Steel Pipe (Public) Company, Ltd. (“Saha Thai”), a Thai producer and exporter, entered an appearance as a respondent interested party. On August 10, 2011, the Department extended the deadline to file a substantive response until August 10, 2011.

On July 29, August 1, and 10, 2011, we received complete substantive responses from the domestic interested parties within the extended deadline established by the Department. Wheatland Tube Company did not file a substantive response. Saha Thai did not file a substantive response. On August 9, 2011, the Government of Turkey submitted a substantive response within the extended deadline.¹ On August 17, 2011, we received rebuttal comments to the Government of Turkey's substantive response from U.S. Steel Corporation. We received no other substantive responses from respondent interested parties on the three antidumping duty orders currently under review and, therefore, did not have adequate respondent interested party participation pursuant to 19 CFR 351.218(e)(1)(ii)(A).

¹ The Government of Turkey did not claim to have exported subject merchandise.

Based on these circumstances, pursuant to section 751(c)(3)(B) of the Act and 19 CFR 351.218(e)(1)(ii)(C)(2), the Department has conducted expedited sunset reviews of these antidumping duty orders.

Scope of the Antidumping Duty Orders

See Appendix 1.

Analysis of Comments Received

All issues raised in these cases are addressed in the Issues and Decision Memorandum for the Final Results of Expedited Five-Year (Sunset) Reviews of the Antidumping Duty Orders on Certain Circular Welded Carbon Steel Pipes and Tubes from India, Thailand, and Turkey from Christian Marsh, Deputy Assistant Secretary for Antidumping and Countervailing Duty Operations, to Ronald K. Lorentzen, Deputy Assistant Secretary for Import Administration (“Decision Memo”), dated concurrent with this final notice, which is hereby adopted by this notice. The issues discussed in the Decision Memo include the likelihood of continuation or recurrence of dumping and the magnitude of the margin likely to prevail if the orders were revoked. Parties can find a complete discussion of all issues raised in these sunset reviews and the corresponding recommendations in this public memo, which is on file electronically via Import Administration's Antidumping and Countervailing Duty Centralized Electronic Service System (“IA ACCESS”). Access to IA ACCESS is available in the Central Records Unit (“CRU”), Room 7046 of the main Department of Commerce building.

In addition, a complete version of the Decision Memo can be accessed directly on the Web at http://ia.ita.doc.gov/frn, under the heading “November 2011”. The signed version and the electronic versions are identical in content.

Final Results of Reviews

We determine that revocation of the antidumping duty orders on certain circular welded carbon steel pipes and tubes from India, Thailand, and Turkey would likely lead to continuation or recurrence of dumping at the following weighted-average percentage margins:

Manufacturers/Exporters/Producers | Weighted-average margin (percent)
India (A-533-502)
Tata Iron and Steel Company, Ltd | 7.08
All Others | 7.08
Thailand (A-549-502)
Saha Thai Steel Pipe Co | 15.69
Thai Steel Pipe Industry Co | 15.60
All Others | 15.67
Turkey (A-489-501)
Borusan Ithicat ve Dagitim | 1.26
Erkboru Profil Sanayi ve Ticaret | 23.12
Mannesmann-Sumerbank Boru Industrisi | 23.12
All Others | 14.74

This notice serves as the only reminder to parties subject to administrative protective order (“APO”) of their responsibility concerning the return or destruction of proprietary information disclosed under APO in accordance with 19 CFR 351.305.

Timely notification of the return or destruction of APO materials or conversion to judicial protective order is hereby requested. Failure to comply with the regulations and terms of an APO is a violation which is subject to sanction.

We are issuing and publishing the results and notice in accordance with sections 751(c), 752(c), and 777(i)(1) of the Act.

Dated: October 24, 2011.
Ronald K. Lorentzen,
Deputy Assistant Secretary for Import Administration.

Appendix 1

Scope of the Antidumping Duty Orders

India—Welded Carbon Steel Pipe and Tube (A-533-502)

The products covered by the order include certain welded carbon steel standard pipes and tubes with an outside diameter of 0.375 inch or more but not over 16 inches. These products are commonly referred to in the industry as standard pipes and tubes produced to various American Society for Testing Materials (ASTM) specifications, most notably A-53, A-120, or A-135.

The antidumping duty order on certain welded carbon steel standard pipes and tubes from India, published on May 12, 1986, included standard scope language which used the import classification system as defined by Tariff Schedules of the United States, Annotated (TSUSA). The United States developed a system of tariff classification based on the international harmonized system of customs nomenclature. On January 1, 1989, the U.S. tariff schedules were fully converted from the TSUSA to the Harmonized Tariff Schedule (HTS). See, e.g., Certain Welded Carbon Steel Standard Pipes and Tubes from India; Preliminary Results of Antidumping Duty Administrative Reviews, 56 FR 26650, 26651 (June 10, 1991). As a result of this transition, the scope language we used in the 1991 Federal Register notice is slightly different from the scope language of the original final determination and antidumping duty order.

Until January 1, 1989, such merchandise was classifiable under item numbers 610.3231, 610.3234, 610.3241, 610.3242, 610.3243, 610.3252, 610.3254, 610.3256, 610.3258, and 610.4925 of the TSUSA. This merchandise is currently classifiable under HTS item numbers 7306.30.1000, 7306.30.5025, 7306.30.5032, 7306.30.5040, 7306.30.5055, 7306.30.5085, 7306.30.5090. As with the TSUSA numbers, the HTS numbers are provided for convenience and customs purposes. The written product description remains dispositive.²

² Certain Welded Carbon Steel Standard Pipes and Tubes From India: Final Results of Antidumping Duty Administrative Review, 75 FR 69626, 69627 (November 15, 2010).

Thailand—Welded Carbon Steel Pipe and Tube (A-549-502)

The products covered by the order include certain welded carbon steel standard pipes and tubes with an outside diameter of 0.375 inch or more but not over 16 inches. These products are commonly referred to in the industry as standard pipes and tubes produced to various American Society for Testing Materials (ASTM) specifications, most notably A-53, A-120, or A-135.

The antidumping duty order on certain welded carbon steel standard pipes and tubes from India, published on May 12, 1986, included standard scope language which used the import classification system as defined by Tariff Schedules of the United States, Annotated (TSUSA). The United States developed a system of tariff classification based on the international harmonized system of customs nomenclature. On January 1, 1989, the U.S. tariff schedules were fully converted from the TSUSA to the Harmonized Tariff Schedule (HTS). See, e.g., Certain Welded Carbon Steel Standard Pipes and Tubes from India; Preliminary Results of Antidumping Duty Administrative Reviews, 56 FR 26650, 26651 (June 10, 1991). As a result of this transition, the scope language we used in the 1991 Federal Register notice is slightly different from the scope language of the original final determination and antidumping duty order.

Until January 1, 1989, such merchandise was classifiable under item numbers 610.3231, 610.3234, 610.3241, 610.3242, 610.3243, 610.3252, 610.3254, 610.3256, 610.3258, and 610.4925 of the TSUSA. This merchandise is currently classifiable under HTS item numbers 7306.30.1000, 7306.30.5025, 7306.30.5032, 7306.30.5040, 7306.30.5055, 7306.30.5085, 7306.30.5090. As with the TSUSA numbers, the HTS numbers are provided for convenience and customs purposes. The written product description remains dispositive.3 4

³ Circular Welded Carbon Steel Pipes and Tubes From Thailand: Final Results of Antidumping Duty Administrative Review, 75 FR 64696 (October 20, 2010).

⁴ There was one scope ruling in which British Standard light pipe 387/67, Class A-1 was found to be within the scope of the order per remand. See Scope Rulings, 58 FR 27542, (May 10, 1993).

Turkey—Welded Carbon Steel Pipe and Tube (A-489-501)

The products covered by this order include circular welded non-alloy steel pipes and tubes, of circular cross-section, not more than 406.4 millimeters (16 inches) in outside diameter, regardless of wall thickness, surface finish (black, or galvanized, painted), or end finish (plain end, beveled end, threaded and coupled). Those pipes and tubes are generally known as standard pipe, though they may also be called structural or mechanical tubing in certain applications. Standard pipes and tubes are intended for the low pressure conveyance of water, steam, natural gas, air, and other liquids and gases in plumbing and heating systems, air conditioner units, automatic sprinkler systems, and other related uses. Standard pipe may also be used for light load-bearing and mechanical applications, such as for fence tubing, and for protection of electrical wiring, such as conduit shells.

The scope is not limited to standard pipe and fence tubing, or those types of mechanical and structural pipe that are used in standard pipe applications. All carbon steel pipes and tubes within the physical description outlined above are included in the scope of this order, except for line pipe, oil country tubular goods, boiler tubing, cold-drawn or cold-rolled mechanical tubing, pipe and tube hollows for redraws, finished scaffolding, and finished rigid conduit.

Imports of these products are currently classifiable under the following Harmonized Tariff Schedule of the United States (“HTSUS”) subheadings: 7306.30.10.00, 7306.30.50.25, 7306.30.50.32, 7306.30.50.40, 7306.30.50.55, 7306.30.50.85, and 7306.30.50.90. Although the HTSUS subheadings are provided for convenience and customs purposes, our written description of the scope of this proceeding is dispositive.⁵

⁵ Certain Welded Carbon Steel Pipe and Tube From Turkey: Notice of Final Antidumping Duty Administrative Review, 75 FR 64250.64251 (October 19, 2010).

[FR Doc. 2011-27957 Filed 10-27-11; 8:45 am]

BILLING CODE 3510-DS-P